NATIONAL FOUNDATION ON THE ARTS AND THE HUMANITIES

National Endowment for the Arts

President's Committee on the Arts and the Humanities: Meeting #71

AGENCY: National Endowment for the Arts, National Foundation on the Arts and Humanities.

ACTION: Notice of meeting.

SUMMARY: Pursuant to section 10(a)(2) of the Federal Advisory Committee Act (Pub. L. 92-463), as amended, notice is hereby given that the 71st meeting of the President's Committee on the Arts and the Humanities (PCAH) will tentatively be held in the Monument Room, Occidental Grill & Seafood, 1475 Pennsylvania Avenue NW., Washington, DC 20004. Ending time is approximate.

DATES: November 17, 2015 from 10:00 a.m. to 12:30 p.m.

FOR FURTHER INFORMATION CONTACT: Lindsey Clark of the President's Committee at (202) 682-5409 or lclark@pcah.gov.

SUPPLEMENTARY INFORMATION: The meeting, on Wednesday, November 17th, will begin with welcome, overview of the agenda, and acknowledgement of new members. This will be followed by reports on Committee Programs (Film Forward, National Student Poets Program, NEH/Spoken Word Ambassador program, Turnaround Arts, and Financial forecasting/program sustainability) and Plans for 2016—Member Survey and Proposals (Review of survey data and main points, plans for 2016 activities). Remarks from the Executive Director will follow. There also will be reports from the President's Committee partners—the Institute of Museum and Library Services (IMLS), National Endowment for the Arts (NEA), and National Endowment for the Humanities (NEH), as well as other Partner updates. The meeting will adjourn after closing remarks.

The President's Committee on the Arts and the Humanities was created by Executive Order in 1982, which currently states that the “Committee shall advise, provide recommendations to, and assist the President, the National Endowment for the Arts, the National Endowment for the Humanities, and the Institute of Museum and Library Services on matters relating to the arts and the humanities.”

Any interested persons may attend as observers, on a space available basis, but seating is limited. Therefore, for this meeting, individuals wishing to attend are advised to contact Lindsey Clark of the President's Committee seven (7) days in advance of the meeting at (202) 682-5409 or write to the Committee at Constitution Center, 400 7th St. SW., Washington, DC 20506. Further information with reference to this meeting can also be obtained from Ms. Clark at lclark@pcah.gov.

If you need special accommodations due to a disability, please contact the Office of AccessAbility, National Endowment for the Arts, Constitution Center, 400 7th St. SW., Washington, DC 20506, (202) 682-5532, TDY-TDD (202) 682-5496, at least seven (7) days prior to the meeting.

Dated: October 28, 2015.
Kathy Plowitz-Worden,
Panel Coordinator, Panel Operations, National Endowment for the Arts.

[FR Doc. 2015-27845 Filed 10-30-15; 8:45 am]

BILLING CODE 7537-01-P